DEPARTMENT OF ENERGY

Federal Energy Regulatory Commission

[Project No. 15319-001]

Jupiter Pumped Storage 1, LLC; Notice of Surrender of Preliminary Permit

Take notice that Jupiter Pumped Storage 1, LLC, permittee for the proposed Mineral Run Pumped Storage Project No. 15319, has requested that its preliminary permit be terminated. The permit was issued on March 1, 2024, and would have expired on February 29, 2028.¹ The project would have been located in Cambria County, Pennsylvania.

¹ Jupiter Pumped Storage 1, LLC, 186 FERC ¶ 62,101 (2024).

The preliminary permit for Project No. 15319 will remain in effect until the close of business, thirty days from the date of this notice. But, if the Commission is closed on this day, then the permit remains in effect until the close of business on the next day in which the Commission is open.² New applications for this site may not be submitted until after the permit surrender is effective.

² 18 CFR 385.2007(a)(2) (2025).

(Authority: 18 CFR 2.1)

Dated: December 8, 2025.
Debbie-Anne A. Reese,
Secretary.

[FR Doc. 2025-22546 Filed 12-10-25; 8:45 am]

BILLING CODE 6717-01-P